GENERAL SERVICES ADMINISTRATION

[Notice-ISP-2016-03; Docket No. 2016-0002; Sequence No. 23]

Privacy Act of 1974: Revised Privacy Act System of Records; Withdrawal

AGENCY: General Services Administration (GSA).

ACTION: Notice of a Privacy Act system of records; withdrawal.

SUMMARY: Access Certificates for Electronic Services GSA/GOVT-5 original intent was to facilitate secure, on-line communication between federal automated information systems and the public, using digital signature technologies to authenticate and verify identity. The reason for the cancellation notice is the system is no longer in use as a government system and has been updated as a commercial affiliate program of the Federal PKI.

DATES: Effective: November 22, 2016.

FOR FURTHER INFORMATION CONTACT: Call or email the GSA Privacy Act Officer: telephone 571-388-6570; or email gsa.privacyact@gsa.gov.

Pranjali Desai,
Director, Office of Information Management, General Services Administration.

[FR Doc. 2016-28084 Filed 11-21-16; 8:45 am]

BILLING CODE 6820-34-P